DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment
[9/1/2009 through 10/9/2009]
Firm | Address | Date accepted for filing | Products
Chicago Turnrite Company, Inc | 4459 W. Lake St., Chicago, IL 60624 | 9/23/2009 | Precision machined parts for the marine, agriculture, railroad, hydraulic and index components industries.
Magil Corporation | 500 N. Oakwood Rd., Lake Zurich, IL 60047 | 9/24/2009 | High tech electric motors designed for elevators.
C Cretors and Company | 3243 N. California Avenue, Chicago, IL 60618 | 9/23/2009 | Food concession and industrial food processing equipment.
Altronics Manufacturing Inc | 12 Executive Drive, Unit 2, Hudson, NH 03051 | 9/24/2009 | Surface mount and thru- hole printed circuit board PCB assembly, and fully integrated services including cables, Electro-mechanical assemblies and full box-build chassis integration.
Jewell Instruments LLC | 850 Perimeter Road, Manchester, NH 03103 | 9/24/2009 | Custom analog and digital panel meters, avionic mechanisms, inertial sensors, precision solenoids and test equipment. They also provide design and engineering services.
Doors and More Inc | 2775 Baxter Lane, Bozeman, MT 59718 | 9/8/2009 | Flush doors.
Distech Systems, Inc | 1005 Mt. Read Boulevard, Rochester, NY 14606 | 9/24/2009 | Automated robotic tray handling systems.
Innovative Coatings, Inc | 24 Jayar Road, Medway, MA 02053 | 9/25/2009 | Custom molded grips, caps, sleeves and covers.
Champion Bus, Inc./General Coach America | 331 Graham Rd., Imlay City, MI 48444 | 9/25/2009 | Passenger busses and coaches for public transportation.
CAB Footwear LP | 2100 Wyoming Ave., EI Paso, TX 79903 | 9/25/2009 | Leather footwear, custom boots.
S & S Cycle, Inc | 14025 County Highway G, Viola, WI 54664-8892 | 9/10/2009 | Complete engines, performance parts, and stock replacement parts.
ThyssenKrupp Bilstein of America, Inc | 8685 Berk Blvd, Hamilton, OH 45015 | 9/25/2009 | Shock absorbers.
Montana Sundown dba Rocky Mountain | 1883 Highway 93 S, Hamilton, MT 59840 | 10/9/2009 | Custom notched logs for log home kits.
Precision Metalcraft, LLC | 2853 S. Hillaide St., Wichita, KS 67216-2546 | 9/16/2009 | High precision stainless steel, titanium & aluminum structural components for the aerospace industry.
Klune Industries, Inc | 1800 North 300 West, Spanish Fork, UT 84660 | 9/22/2009 | Precision machined aircraft components and assemblies.
White Electronic Designs Corporation | 3601 E. University Drive, Phoenix, AZ 85034-7217 | 9/23/2009 | Semiconductors and related devices.
Turning Solutions, Inc | 34 East Harmer Street, Warren, PA 16365 | 9/10/2009 | Turning Solutions, Inc. specializes in metal and nonmetal turned CNC precision products such as bolts, nuts, rivets, valves, pipe fittings and washers.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: October 13, 2009.
Bryan Borlik,
Program Director, TAA for Firms.

[FR Doc. E9-25036 Filed 10-16-09; 8:45 am]

BILLING CODE 3510-24-P